MERIT SYSTEMS PROTECTION BOARD

Agency Information Collection Activities; Proposed Collection

AGENCY: Merit Systems Protection Board.

ACTION: Notice.

SUMMARY: In compliance with the Paperwork Reduction Act (44 U.S.C. 3501 et seq.), this notice announces that the Merit Systems Protection Board (MSPB or the Board) is forwarding the following proposed information collection to the Office of Management and Budget (OMB) for approval: MSPB Form 185, a revised paper Appeal Form; and e-Appeal, an electronic application for filing an appeal with the Board.

DATES: Please submit comments on or before January 26, 2007.

ADDRESSES: Comments concerning the paperwork burden should be addressed to the office of Information and Regulatory Affairs, Office of Management and Budget, Attention: Desk Officer for MSPB, 725 17th Street, NW., Washington, DC 20503, with a copy to Timothy Korb, Merit Systems Protection Board, 1615 M Street, NW., Washington, DC 20419 (or by e-mail to Timothy.Korb@mspb.gov).

SUPPLEMENTARY INFORMATION: On September 21, 2006, the Board published in the Federal Register (71 FR 55221) a notice of its intent to submit this proposed information request to OMB for approval, noting that the MSPB intends to make one substantive change to the information collected on the MSPB Appeal Form in both its paper and electronic formats: Individuals who file appeals with the MSPB will be required to provide the last four digits of their Social Security numbers. In addition, several minor edits are being made to the Appeal Form to make the process easier to understand.

The reason for requiring the last four digits of appellants' Social Security numbers is to ascertain whether an appellant has filed previous appeals with the MSPB that may affect the processing of the new appeal. Because of the similarity of names and the possibility of name changes, and because appellants sometimes use nicknames instead of formal names, it can be difficult to determine whether the person who has filed a new appeal is the same person who filed one or more previous Board appeals. Although requiring the last four digits of the appellant's Social Security number will not result in certainty as to the filer's identity, it will give the MSPB more assurance in this regard. The Board stated that it will carefully safeguard the last four digits of Social Security numbers provided by appellants in MSPB proceedings, and that this information would not generally be disclosed to third parties.

The Board received one comment regarding the substantive change to the appeal form, which raised a concern about protecting the privacy of appellants: “The last four digits of the SSN, in combination with any other amount of personal information about the appellant, the complete SSN can be determined.” We appreciate and share the concern about protecting appellants' privacy, but our investigation failed to disclose a method for accurately determining a person's complete Social Security number having only knowledge of the last four digits (plus some other personal information). More importantly, as stated in our earlier Federal Register notice, the MSPB will not be disclosing these four-digit numbers to persons outside the agency. These numbers, along with other personal identifiable information, would be redacted before releasing copies of Board records to persons making requests under the Freedom of Information Act or the Privacy Act.

Estimated Reporting Burden: As stated in 60-day notice, the public reporting burden for this collection of information is estimated to vary from 20 minutes to 4 hours, with an average of 60 minutes per response, including time for reviewing the form and instructions, searching existing data sources, gathering the data necessary, and completing and reviewing the collection of information.

Estimated Annual Reporting Burden
5 CFR parts | Annual number of respondents | Frequency per response | Total annual reponse | Hours per response | Total hours
1201, 1208, and 1209 | 7,150 | 1 | 7,150 | 1.0 | 7,150

Bentley M. Roberts, Jr.,
Clerk of the Board.

[FR Doc. 06-9681 Filed 12-13-06; 8:45 am]

BILLING CODE 7401-01-M